DEPARTMENT OF TRANSPORTATION

Coast Guard

[USCG 2001-10524]

Collection of Information Under Review by Office of Management and Budget (OMB): OMB Control Number 2115-0514

AGENCY: Coast Guard, DOT.

ACTION: Request for comments.

SUMMARY: In compliance with the Paperwork Reduction Act of 1995, the Coast Guard intends to seek the approval of OMB for the renewal of one Information Collection Request (ICR). The ICR comprises Submission of Continuous-Discharge Book, Revised Merchant Mariner's Application, Report of Entry-Level Physical, Report of Other Physical, Report of New Sea Service, and Report of Chemical Testing. Before submitting the ICR to OMB, the Coast Guard is requesting comments on it.

DATES: Comments must reach the Coast Guard on or before November 9, 2001.

ADDRESSES: You may mail comments to the Docket Management System (DMS) [USCG 2001-10524], U. S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The DMS maintains the public docket for this request. Comments will become part of this docket and will be available for inspection or copying in room PL-401, located on the Plaza Level of the Nassif Building at the above address between 9 a.m. and 5 p.m., Monday through Friday, except Federal holidays. You may also access this docket on the Internet at http://dms.dot.gov.

Copies of the complete ICR are available through this docket on the Internet at http://dms.dot.gov and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; or Dorothy Beard, Chief, Documentary Services Division, U.S. Department of Transportation, 202-366-5149, for questions on the docket.

Request for Comments

The Coast Guard encourages interested persons to submit written comments. Persons submitting comments should include their names and addresses, identify this document [USCG 2001-10524], and give the reason for the comments. Please submit all comments and attachments in an unbound format no larger than 8½ by 11 inches, suitable for copying and electronic filing. Persons wanting acknowledgment of receipt of comments should enclose stamped self-addressed postcards or envelopes.

Information Collection Request

1. Title: Submission of Continuous-Discharge Book, Revised Merchant Mariner's Application, Report of Entry-Level Physical, Report of Other Physical, Report of New Sea Service, and Report of Chemical Testing.

OMB Control Number: 2115-0514.

Summary: The Coast Guard needs this various information to evaluate the competency, character, and physical fitness of individuals applying for Coast Guard Licenses, Certificates of Registry, and Merchant Mariners' Documents.

Need: 46 U.S.C. 7101 and 7302 give the Coast Guard the authority to issue Licenses, Certificates of Registry, and Merchant Mariners' Documents to individuals found qualified as to age, character, habits of life, experience, professional qualifications, and physical fitness.

Respondents: Merchant Mariners.

Frequency: On occasion.

Burden Estimate: The estimated burden is 21,359 hours a year.

Dated: August 31, 2001.
V.S. Crea,
Director of Information and Technology.

[FR Doc. 01-22627 Filed 9-7-01; 8:45 am]

BILLING CODE 4910-15-U